NATIONAL SCIENCE FOUNDATION

Sunshine Act Meetings

Agency Holding Meeting: National Science Foundation, National Science Board.

Place: The National Science Foundation, 4201 Wilson Boulevard—Room 130, Arlington, VA 22230, http//www.nsf.gov/nsb.

Contact for Information: Robert Webber (703) 292-7000.

Status: This meeting will be open to the public.

Matters to be Considered: Teleconference of the NSB Education and Human Resources Committee Undergraduate Working Group.

Open

Discussion of Undergraduate Working Group plans and activities.

Robert Webber,
Policy Analyst, NSBO.

[FR Doc. 03-17695 Filed 7-9-03; 10:20 am]

BILLING CODE 7555-01-M